DEPARTMENT OF COMMERCE

[Docket Number: 030904219-3219-01]

Office of Administration; Privacy Act System of Records

AGENCY: Office of Administration, Department of Commerce.

ACTION: Notice; Commerce/Department System 18: Employees Personnel Files not covered by notices of other agencies.

SUMMARY: The Department of Commerce (Commerce) publishes this notice to announce the effective date of a Privacy Act System of Records entitled Commerce/Department System 18: Employees Personnel Files Not Covered by Notices of Other Agencies.

DATES: The system of records becomes effective on September 26, 2003.

ADDRESSES: For a copy of the system of records please mail requests to Brenda Dolan, U.S. Department of Commerce, Room 6022, 14th and Constitution Avenue, NW., Washington, DC 20230, 202-482-4115.

FOR FURTHER INFORMATION CONTACT: Brenda Dolan, U.S. Department of Commerce, Room 6022, 14th and Constitution Ave., NW., Washington, DC 20230.

SUPPLEMENTARY INFORMATION: On June 17, 2003, Commerce published and requested comments on a proposed Privacy Act System of Records entitled Commerce/Department System 18: Employees Personnel Files Not Covered by Notices of Other Agencies (68 FR 35852, June 17, 2003). No comments were received in response to the request for comments. By this notice, the Department is adopting the proposed system as final without changes effective September 26, 2003.

Brenda Dolan,
Department of Commerce, Freedom of Information/Privacy Act Officer.

[FR Doc. 03-24322 Filed 9-25-03; 8:45 am]

BILLING CODE 3510-BP-P